DEPARTMENT OF HOUSING AND URBAN DEVELOPMENT

[Docket No. FR-5030-FA-28]

Announcement of Funding Awards for Fiscal Year 2006 Historically Black Colleges and Universities Program

AGENCY: Office of the Assistant Secretary for Policy Development and Research, HUD.

ACTION: Announcement of funding awards.

SUMMARY: In accordance with section 102(a)(4)(C) of the Department of Housing and Urban Development Reform Act of 1989, this document notifies the public of funding awards for Fiscal Year (FY) 2006 Historically Black Colleges and Universities Program. The purpose of this document is to announce the names, addresses and the amount awarded to the winners to be used to help Historically Black Colleges and Universities (HBCUs) expand their role and effectiveness in addressing community development needs in their localities, consistent with the purposes of HUD's Community Development Block Grant program (CDBG).

FOR FURTHER INFORMATION CONTACT: Susan Brunson, Office of University Partnerships, U.S. Department of Housing and Urban Development, 451 Seventh Street, SW., Room 8106, Washington, DC 20410, telephone (202) 708-3061, extension 3852. To provide service for persons who are hearing-or-speech-impaired, this number may be reached via TTY by Dialing the Federal Information Relay Service on (800) 877-8339 or (202) 708-1455. (Telephone number, other than “800” TTY numbers are not toll free.)

SUPPLEMENTARY INFORMATION: The Historically Black Colleges and Universities Program was enacted under section 107 of the CDBG appropriation for FY 2006, as part of the “Veterans Administration, HUD and Independent Agencies Appropriations Act of 2002” and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The HBCU Program provides funds for a wide range of CDBG-eligible activities including housing rehabilitation and financing, property demolition or acquisition, public facilities, economic development, business entrepreneurship, and fair housing programs.

The Catalog Federal Domestic Assistance number for this program is 14.520.

On March 8, 2006 (71 FR 11747), HUD published a Notice of Funding Availability (NOFA) announcing the availability of $7.9 million in FY 2006, plus $2.5 million in previously unobligated funds for the HBCU Program. This year HUD awarded two types of grants: Category I and Category II. Of the amount available, $6.0 million was available to Category I applicants and $4.4 million is available to fund Category II applicants.

Category I grants were awarded to institutions that sustained in excess of $50 million in damages and destructions from hurricanes Katrina or Rita in FY 2005 (applicants can request up to $2,000,000) to provide critical resources and assistance. Funding awarded under Category II grants will allow institutions to expand their role and effectiveness in addressing community development needs in their localities or a designated disaster area (applicants could request up to $600,000). The Department reviewed, evaluated, and scored the applications received based on the criteria in the NOFA. As a result, HUD has funded the applications below, in accordance with section 102(a)(4)(C) of the Department of Housing and Urban Development Reform Act of 1989 (103 Stat. 1987, 42 U.S.C. 3545).

List of Awardees for Grant Assistance Under the FY 2006 Historically Black Program Funding Competition, by Institution, Address, and Grant Amount

Region III

1. Howard University, Dr. Rodney Green, Howard University, Center for Urban Progress, 1840 7th Street, NW., Suite 318, Washington, DC 20001. Grant: $586,027.

2. Morgan State University, Mr. Ellis Brown, Morgan State University, Community and Economic Development, Truth Hall, Room #111-G, 1700 East Cold Spring Lane, Baltimore, MD 21251. Grant: $600,000.

3. Norfolk State University, Mrs. Debra Atkins, Norfolk State University, Community and Outreach Service, 700 Park Avenue, Norfolk, VA 23504. Grant: $600,000.

Region IV

4. Alabama A&M University, Mr. Larry Dejarnett, Alabama A&M University, Community Planning/Urban Studies, 4900 Meridian Street, James I. Dawson Building, Rm. 316B, Normal, AL 35762. Grant: $600,000.

5. Benedict College, Dr. Jabari Simama, Benedict College, Benedict-Allen Community Development Corporation, 1600 Harden Street, Columbia, SC 29204. Grant: $600,000.

6. C.A. Fredd Technical College Campus, Dr. Cordell Wynn, C.A. Fredd Technical College Campus, 3401 Martin Luther King Jr. Boulevard, Tuscaloosa, AL 35401. Grant: $599,020.

7. Morris College, Ms. Dorothy Cheagle, Morris College, Planning and Governmental Relations, 100 West College Street, Sumter, SC 29150. Grant: $600,000.

8. North Carolina A&T State University, Dr. N. Radhakrishman, North Carolina A&T State University, Research and Economic Development, 1601 East Market Street, Greensboro, NC 27411. Grant: $597,538.

Region VI

9. Southern University and A&M College, Dr. Alma Thornton, Southern University and A&M College, Center for Social Research, 208 Higgins Hall, Roosevelt Steptoe Drive, Baton Rouge, LA 70813. Grant: $600,000.

10. Dillard University, Mr. Theodore Callier, Dillard University, Office of Sponsored Programs,1555 Poydras Street, 12th Floor, New Orleans, LA 70112. Grant: $2,000,000.

11. Langston University, Ms. Linda Tillman, Langston University, Rural Business Development, 4205 North Lincoln Boulevard, Room 109, Oklahoma City, OK 73105. Grant: $587,806.

12. Xavier University of Louisiana, Dr. Kyshun Webster, Xavier University of Louisiana, One Drexel Drive, New Orleans, LA 70125. Grant: $2,000,000.

13. University of Arkansas at Pine Bluff, Mr. Henry Golatt, Sr., University of Arkansas at Pine Bluff, Economic Research and Development Center, 1200 North University Drive, Pine Bluff, AR 71601. Grant: $429,609.

Dated: September 21, 2006.
Darlene F. Williams,
Assistant Secretary.

[FR Doc. E6-16715 Filed 10-10-06; 8:45 am]

BILLING CODE 4210-67-P